DEPARTMENT OF AGRICULTURE

Forest Service

Medicine Bow-Routt National Forests and Thunder Basin National Grassland, Brush Creek/Hayden Ranger District; Wyoming; North Savery Project

AGENCY: Forest Service, USDA.

ACTION: Notice of intent to prepare an environmental impact statement.

SUMMARY: In the North Savery Project, the Medicine Bow-Routt National Forests and Thunder Basin National Grassland, Brush Creek/Hayden Ranger District proposes approximately 6,500 acres of salvage logging, precommercial thinning, and hazard tree clearing on National Forest System lands in the northwest Sierra Madre mountain range. The District also proposes changes to the road system in the project area, including decommissioning 26 miles of roads that are causing direct impacts to watershed resources. The Governor of Wyoming has identified the project area as a priority landscape for treatment under the 2014 Farm Bill and amended Healthy Forests Restoration Act of 2003, which provide for expedited environmental analysis and treatments to address areas affected by insect and disease infestations. Accordingly, the environmental analysis associated with the North Savery Project will proceed according to Section 104 of the Healthy Forests Restoration Act and will be subject to subparts A and C of the U.S. Forest Service Project-Level Predecisional Administrative Review Process documented at 36 CFR 218.

DATES: Comments concerning the scope of the analysis must be received by February 1, 2016. The draft environmental impact statement is expected in May 2016 and the final environmental impact statement is expected in September 2016.

ADDRESSES: Send written comments to Medicine Bow National Forest; Attn: Melanie Fullman; PO Box 249, Saratoga, WY 82331. Comments may also be sent via email to comments-rm-medicine-bow-routt-brush-creek-hayden@fs.fed.us, or via facsimile to 307-326-5250. Comments may be hand delivered during business hours (8:00 a.m. to 12:00 p.m. and 1:00 p.m. to 4:30 p.m.) to 2171 Highway 130, Saratoga WY 82331.

All comments, including names and addresses when provided, are placed in the record and are available for public inspection and copying. The public may inspect comments received at 2171 Highway 130, Saratoga WY. Visitors are encouraged to call ahead to 307-326-2500 to facilitate entry into the building.

FOR FURTHER INFORMATION CONTACT: Monique Nelson, Medicine Bow National Forest; 2468 Jackson St, Laramie WY 82070; phone (307)745-2310; or email: moniquelnelson@fs.fed.us. A scoping document, including maps, is available online at http://www.fs.fed.us/nepa/nepa_project_exp.php?project=47913.

Individuals who use telecommunication devices for the deaf (TDD) may call the Federal Information Relay Service (FIRS) at 1-800-877-8339 between 8 a.m. and 8 p.m., Eastern Time, Monday through Friday.

SUPPLEMENTARY INFORMATION:

Purpose and Need for Action

The purpose of the North Savery Analysis is to (1) promote forest regeneration in stands affected by mountain pine beetle; (2) treat overstocked timber stands to improve growth and vigor; (3) reduce the development of large continuous high hazard fuel conditions in high timber production areas; (4) remove hazard trees from high priority areas affecting public safety; (5) provide merchantable timber products for sale from designated timber units; and (6) relocate, reconstruct, or restore to natural conditions portions of the existing road system that are in need of maintenance or are detrimentally contributing to watershed health.

Over the past decade, a mountain pine beetle epidemic has killed pine trees across thousands of acres of forest land in southern Wyoming. In lodgepole pine forests, approximately 70% of the trees greater than 6″ in diameter are dead or dying from mountain pine beetle infestation. Timber stands in the North Savery Project analysis area are among the most productive growing sites on the Medicine Bow National Forest, and it is a priority to reforest and return these stands to timber production. There is a limited time in which to salvage these trees and recover a sawtimber product. The Governor of Wyoming has identified this project location as a priority area for treatment due to insect and disease infestation.

Proposed Action

Salvage Harvest

The Forest Service has identified and will analyze approximately 7,700 acres for salvage harvest. Approximately 2,200 of the analyzed acres will not be harvested in order to conserve watershed heath and wildlife habitat. Acres to be set aside from treatment will be determined based on the analyzed effects to water yields in each watershed and the presence of wildlife and other resources of interest. Overstory Removal and Clearcut treatments would be used in lodgepole pine stands to salvage dead and dying trees; some live trees will also be harvested.

Overstory removal treatments are used in areas that have a significant understory component. The intent is to harvest overstory trees while maintaining understory trees that are too small to be merchantable. Clearcut prescriptions are used in stands that have beetle mortality greater than 70%, are highly mistletoe infested, have low levels of existing regeneration, or where the remaining green trees would be at high risk of windthrow. Species present and the presence, distribution, and health of the understory will dictate what options are available for salvage treatments on a stand-by-stand basis. Generally, lodgepole pine trees over 7.0 inches in diameter would be designated for removal. Trees of all species less than 7.0 inches in diameter would generally remain on site. Areas within units that have large, contiguous components of Engelmann spruce may be retained for wildlife. Subalpine fir, when found as a minor component in lodgepole pine stands, would not be retained unless included as wildlife habitat.

Precommercial Thinning

Precommercial thinning is proposed on approximately 1,000 acres of densely regenerating lodgepole pine seedling/sapling stands. Precommercial thinning would improve growth and vigor, reduce stress from overcrowding and competition, and provide for a future stand that is less susceptible to bark beetles.

Hazard Tree Clearing

Some areas identified for salvage harvest include hazard trees along roads, trails, and administrative sites.

Roads Proposals

The Forest Service proposes to decommission (return to a natural state) approximately 26 miles of roads that are causing direct impacts to wetland and water resources, provide redundant access in areas of high road density, or are in greater sage-grouse core habitat. To ensure adequate access to the area, the Forest Service proposes to add approximately 6 miles of well-placed unauthorized routes to the National Forest road system, convert 1 mile of road to ORV trail, and build approximately 1 mile of ORV trail. Finally, the Forest Service proposes to construct 1 mile of road, reconstruct 2 miles of road, and reroute 1 mile of road. Approximately 20 miles of temporary roads may be needed to facilitate timber harvest.

Responsible Official

Melanie B. Fullman, District Ranger; Medicine Bow Routt-National Forests and Thunder Basin National Grassland, Brush Creek/Hayden Ranger District.

Nature of Decision To Be Made

The Responsible Official will decide whether to adopt and implement the proposed action, implement an alternative to or modification of the proposed action, or take no action with respect to the North Savery Project.

Preliminary Issues

The following issues were identified while scoping a larger “Savery” project in 2011. The Savery Project was scoped but was not analyzed or implemented. This North Savery Project is located with the former Savery Project analysis area but is smaller in extent and includes fewer proposals. Preliminary issues are: (1) effects of proposed timber salvage treatments on wildlife, wildlife habitat, and watershed funtion; (2) effects of road closures and road decommissioning on recreational access to the national forest.

Scoping Process

This notice of intent initiates the scoping process, which guides the development of the environmental impact statement. There will a public meeting held at the Bureau of Land Management Rawlins Field Office located at 1300 North 3rd St., Rawlins WY 82301 on December 9, 2015 from 5:30 p.m. to 7:30 p.m. A second public meeting will be held at the Platte Valley Community Center located at 210 W Elm Ave, Saratoga, WY 82331 on December 10, 2015 from 5:30 to 7:30 p.m.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however.

Melanie B. Fullman,
District Ranger.

[FR Doc. 2015-30422 Filed 11-30-15; 8:45 am]

BILLING CODE 3410-11-P